FEDERAL COMMUNICATIONS COMMISSION

Notice of Public Information Collection(s) Being Reviewed by the Federal Communications Commission, Comments Requested [Withdrawn]

AGENCY: Federal Communications Commission.

ACTION: Notice; withdrawal of request for comments.

SUMMARY: The Federal Communications Commission published a document requesting comments, as part of its continuing effort to reduce paperwork burden and as required by the Paperwork Reduction Act (PRA) of 1995. The Commission invited the general public and other agencies to comment on whether the proposed collection of information is necessary for the proper performance of the functions of the Commission; however, the Commission withdraws its request for those comments.

DATES: Effective August 22, 2014.

FOR FURTHER INFORMATION CONTACT: Leslie F. Smith at (202) 418-0217, or via the Internet at PRA@fcc.gov.

SUPPLEMENTARY INFORMATION: OMB Control Number: 3060-XXXX.

Title: FCC Frequent Visitor Building Identification (ID) Badge Database, FCC Form 210.

Form Number: FCC Form 210.

Type of Review: New information collection. Request for comments published at 79 FR 48151, August 15, 2014 is withdrawn from publication in the Federal Register effective August 22, 2014.

Federal Communications Commission.
Gloria J. Miles,
Federal Register Liaison.

[FR Doc. 2014-19916 Filed 8-21-14; 8:45 am]

BILLING CODE 6712-01-P